DEPARTMENT OF AGRICULTURE

Forest Service

Status of Travel Management Planning and Providing Access for Subsistence Purposes Within the USDA Forest Service, Alaska Region

AGENCY: Forest Service, USDA.

ACTION: Notice to inform.

SUMMARY: The USDA Forest Service, Alaska Region, is notifying the public of the process for making travel management decisions on National Forest System (NFS) lands in Alaska, consistent with both Subpart B of the Travel Management Rule (36 CFR 212) and the Alaska National Interest Lands Conservation Act (ANILCA) Title VIII, Sections 810 and 811. The Tongass National Forest initiated travel management analyses, and will be completing National Environmental Policy Act (NEPA) and producing Motor Vehicle Use Maps (MVUMs) over the next 18 months, pursuant to 36 CFR 212 Subpart B. The analysis and associated NEPA will evaluate the effects on subsistence uses (Section 810 of ANILCA) and subsistence access (Section 811 of ANILCA); the public involvement requirements of ANILCA 810 and 811 will run concurrent with the NEPA public comment period, including notice and hearings; the NEPA documentation (for example, environmental assessment) and decision document (for example, Decision Notice and Finding of No Significant Impact) will be prepared to document the travel management route and area designation decisions. The prohibition on motor vehicle use off the designated system (36 CFR 261.13) and the closures or restrictions to access for subsistence purposes (Section 811(b) of ANILCA) will go into effect and are enforceable when each MVUM is completed, published, and made available to the public.

The Chugach National Forest and Sitka Ranger District, Tongass National Forest, completed their NEPA process and associated MVUM's pursuant 36 CFR 212 Subpart B. The Wrangell Ranger District, Tongass National Forest, completed their travel management NEPA, and is scheduled to publish their MVUM in 2009. The prohibition on motor vehicle use off the designated system (36 CFR 261.13) and closures or restrictions to access for subsistence purposes (Section 811(b) of ANILCA) go into effect and are enforceable when the MVUMs are published and made available to the public.

DATES: The Alaska Region is scheduled to complete all MVUMs by December 2009.

ADDRESSES: Chugach National Forest, Supervisor's Office, 3301 C Street, Suite 300, Anchorage, AK 99503-3993: Tongass National Forest, Supervisor's Office, Federal Building, Ketchikan, AK 99901-6591.

FOR FURTHER INFORMATION CONTACT: For questions and to obtain information on the completed MVUM for the Chugach National Forest, contact Steve Hennig (907) 743-9509 or visit the Web site at http://www.fs.fed.us/r10/chugach/recreation/mvum.html. For questions and to obtain information on the schedule for completing travel management and MVUMs for the Tongass National Forest, contact Hans von Rekowsi (907) 747-4217, or visit the Web site at: http://www.fs.fed.us/r10/tongass/projects/projects.shtml.

Individuals who use telecommunication devices for the deaf (TDD) may call the Federal Information Relay Service (FIRS) at 1-800-877-8339 between 8 a.m. and 8 p.m., Eastern Standard Time, Monday through Friday.

SUPPLEMENTARY INFORMATION: In November 2005, the Forest Service published a rule at 36 CFR 212 (Travel Management Rule). Subpart B of the rule addresses designation of roads, trails, and areas for motor vehicle use. The rule requires responsible officials on each administrative unit or ranger district to designate those roads, trails, and areas open to motor vehicle use. Designated routes and areas will be identified on a MVUM. Once the MVUM is published, motor vehicle use that is inconsistent with the designations will be prohibited. If any routes are identified for closure, they will not be closed until after completion of the NEPA planning process and publishing of the MVUM. The following are exempted from designations: Fire, military, emergency and law enforcement vehicles for emergency purposes, limited administrative use by the Forest Service, and use authorized under written authorization from the Forest Service.

Motor vehicle access for subsistence purposes will be identified through travel management NEPA analysis being conducted on each ranger district. NEPA documents will clearly display and analyze subsistence uses and access, and the effects of route and area designations (and associated closures if applicable) on these uses and access. ANILCA 811(a) requires the Forest Service to ensure rural residents reasonable access to subsistence resources on NFS lands. ANILCA 811(b) requires the Forest Service to permit on NFS lands in Alaska the appropriate use for subsistence purposes of snowmobiles, motorboats, and other means of surface transportation traditionally employed for such purposes by local residents, subject to reasonable regulation. Decisions about closures and restrictions will be made by the responsible official.

Dated: June 30, 2008.
Paul K. Brewster,
Deputy Regional Forester, Alaska Region.

[FR Doc. E8-15873 Filed 7-15-08; 8:45 am]

BILLING CODE 3410-11-M